DEPARTMENT OF DEFENSE

Corps of Engineer, Department of the Army

Intent To Prepare A Draft Tier II Environment Impact Statement (DEIS) for the Savannah Harbor Expansion Project, Savannah, Georgia

AGENCY: US Army Corps of Engineers, DOD.

ACTION: Notice of Intent—Correction.

SUMMARY OF THE ACTION: The U.S. Army Corps of Engineers published a Notice Of Intent to Prepare a Draft Tier II Environment Impact Statement (DEIS) for the Savannah Harbor Expansion Project, Savannah, Georgia in the Federal Register on January 22, 2002. A portion of the address contained in contact information was incorrect. The correct information is as follows: Questions or written comments about the proposed action and DEIS should be provided by March 7, 2002 to: Mr. William Bailey at 912-652-5781, e-mail address shep@sas02.usace.army.mil, or at US Army Corps of Engineers, Savannah District, ATTN: PD-E, Post Office Box 889, Savannah, Georgia 31402.

Dated: February 19, 2002.
David V. Schmidt,
Chief, Planning Division.

[FR Doc. 02-4365 Filed 2-22-02; 8:45 am]

BILLING CODE 3710-HP-M